DEPARTMENT OF ENERGY

10 CFR Part 430

[EERE-2021-BT-STD-0029]

RIN 1904-AE64

Energy Conservation Program: Energy Conservation Standards for Consumer Products; Early Assessment Review; Consumer Furnace Fans

AGENCY: Office of Energy Efficiency and Renewable Energy, Department of Energy.

ACTION: Request for information.

SUMMARY: The U.S. Department of Energy (“DOE”) is undertaking an early assessment review for amended energy conservation standards for consumer furnace fans to determine whether to amend applicable energy conservation standards for this product. Specifically, through this request for information (“RFI”), DOE seeks data and information to evaluate whether amended energy conservation standards would result in significant savings of energy; be technologically feasible; and be economically justified. DOE welcomes written comments from the public on any subject within the scope of this document (including those topics not specifically raised in this RFI), as well as the submission of data and other relevant information concerning this early assessment review.

DATES: Written comments and information are requested and will be accepted on or before December 23, 2021.

ADDRESSES: Interested persons are encouraged to submit comments using the Federal eRulemaking Portal at www.regulations.gov. Follow the instructions for submitting comments. Alternatively, interested persons may submit comments, identified by docket number EERE-2021-BT-STD-0029, by any of the following methods:

1. Federal eRulemaking Portal: www.regulations.gov. Follow the instructions for submitting comments.

2. Email: To ConsumerFurnFan2021STD0029@ee.doe.gov. Include docket number EERE-2021-BT-STD-0029 in the subject line of the message.

No facsimile (“fax”) transmissions will be accepted. For detailed instructions on submitting comments and additional information on this process, see section IV of this document.

Although DOE has routinely accepted public comment submissions through a variety of mechanisms, including postal mail and hand delivery/courier, the Department has found it necessary to make temporary modifications to the comment submission process in light of the ongoing coronavirus 2019 (“COVID-19”) pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2021-BT-STD-0029. The docket web page contains instructions on how to access all documents, including public comments, in the docket. See section III for information on how to submit comments through www.regulations.gov.

FOR FURTHER INFORMATION CONTACT: Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Ms. Linda Field, U.S. Department of Energy, Office of the General Counsel, GC-33, 1000 Independence Avenue SW, Washington, DC 20585-0121. Telephone: (202) 586-3440. Email: Linda.Field@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority

B. Rulemaking History

II. Request for Information

A. Scope & Product Classes

B. Significant Savings of Energy

C. Technological Feasibility

1. Technology Options

2. Screening Analysis

3. Engineering Efficiency Analysis

D. Economic Justification

1. Life-Cycle Cost and Payback Period Analysis

2. Manufacturer Impact Analysis

III. Submission of Comments

I. Introduction

DOE has established an early assessment review process to conduct a more focused analysis to evaluate, based on statutory criteria, whether a new or amended energy conservation standard is warranted. Based on the information received in response to the RFI and DOE's own analysis, DOE will determine whether to proceed with a rulemaking for a new or amended energy conservation standard. If DOE makes an initial determination that a new or amended energy conservation standard would satisfy the applicable statutory criteria or DOE's analysis is inconclusive, DOE would undertake the preliminary stages of a rulemaking to issue a new or amended energy conservation standard. If DOE makes an initial determination based upon available evidence that a new or amended energy conservation standard would not meet the applicable statutory criteria, DOE would engage in notice and comment rulemaking before issuing a final determination that new or amended energy conservation standards are not warranted.

A. Authority

The Energy Policy and Conservation Act, as amended (“EPCA”),¹ among other things, authorizes DOE to regulate the energy efficiency of a number of consumer products and certain industrial equipment. (42 U.S.C. 6291-6317) Title III, Part B ² of EPCA established the Energy Conservation Program for Consumer Products Other Than Automobiles. These products include consumer furnace fans, the subject of this document. (42 U.S.C. 6295(f)(4)(D))

¹ All references to EPCA in this document refer to the statute as amended through the Energy Act of 2020, Public Law 116-260 (Dec. 27, 2020).

² For editorial reasons, upon codification in the U.S. Code, Part B was redesignated Part A.

Under EPCA, DOE's energy conservation program consists essentially of four parts: (1) Testing, (2) labeling, (3) Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

Federal energy efficiency requirements for covered products established under EPCA generally supersede State laws and regulations concerning energy conservation testing, labeling, and standards. (42 U.S.C. 6297(a)-(c)) DOE may, however, grant waivers of Federal preemption in limited instances for particular State laws or regulations, in accordance with the procedures and other provisions set forth under 42 U.S.C. 6297(d).

DOE must follow specific statutory criteria for prescribing new or amended standards for covered products. EPCA requires that any new or amended energy conservation standard prescribed by the Secretary of Energy (“Secretary”) be designed to achieve the maximum improvement in energy or water efficiency that is technologically feasible and economically justified. (42 U.S.C. 6295(o)(2)(A)) The Secretary may not prescribe an amended or new standard that will not result in significant conservation of energy, or is not technologically feasible or economically justified. (42 U.S.C. 6295(o)(3))

EPCA also requires that, not later than 6 years after the issuance of any final rule establishing or amending a standard, DOE must publish either a notice of determination that standards for the product do not need to be amended, or a notice of proposed rulemaking (“NOPR”) including new proposed energy conservation standards (proceeding to a final rule, as appropriate). (42 U.S.C. 6295(m)(1)) DOE is publishing this RFI to collect data and information to inform its decision to satisfy the 6-year-lookback review requirement.

B. Rulemaking History

DOE established energy conservation standards at 10 CFR 430.32(y) for furnace fans through a final rule published in the Federal Register on July 3, 2014 (“July 2014 Final Rule”). 79 FR 38130. Compliance with the prescribed standards established for consumer furnace fans in the July 2014 Final Rule was required as of July 3, 2019. DOE's energy conservation standard for furnace fans use the fan energy rating (“FER”) metric, which is the ratio of the electrical energy consumption to airflow, expressed as watts per 1,000 cubic feet per minute of airflow (“W/1,000 cfm”). 10 CFR 430.32(y). The test procedure for determining FER is establishes at 10 CFR part 430 subpart B appendix AA, Uniform Test Method for Measuring the Energy Consumption of Furnace Fans (“appendix AA”). In parallel to this rulemaking, DOE is considering whether amendments are warranted for the current test procedure for furnace fans. On July 7, 2021, DOE published an early assessment request for information concerning the test procedure for furnace fans. 86 FR 35660.

II. Request for Information

DOE is publishing this RFI to collect data and information during the early assessment review to inform its decision, consistent with its obligations under EPCA, as to whether the Department should proceed with an energy conservation standards rulemaking. Below DOE has identified certain topics for which information and data are requested to assist in the evaluation of the potential for amended energy conservation standards. DOE also welcomes comments on other issues relevant to its early assessment that may not specifically be identified in this document.

A. Scope & Product Classes

When evaluating and establishing energy conservation standards, DOE divides covered products into product classes by the type of energy used, or by capacity or other performance-related features that justify differing standards. (42 U.S.C. 6295(q)) In making a determination whether a performance-related feature justifies a different standard, DOE must consider such factors as the utility of the feature to the consumer and other factors DOE determines are appropriate. (Id.)

A “furnace fan” is “an electrically-powered device used in a consumer product for the purpose of circulating air through ductwork.” 10 CFR 430.2. DOE has established ten product classes for furnace fans: Non-Weatherized, Non-Condensing Gas Furnace Fans; Non-Weatherized, Condensing Gas Furnace Fans; Weatherized Non-Condensing Gas Furnace Fans; Non-Weatherized, Non-Condensing, Oil Furnace Fans; Non-Weatherized Electric Furnace/Modular Blower Fans; Mobile Home Non-Weatherized, Non-Condensing Gas Furnace Fans; Mobile Home Non-Weatherized, Condensing Gas Furnace Fans; Mobile Home Electric Furnace/Modular Blower Fans; Mobile Home Weatherized Gas Furnace Fans; and Mobile Home Non-Weatherized Oil Furnace Fans. 10 CFR 430.32(y). Mobile Home Weatherized Gas Furnace Fans and Mobile Home Non-Weatherized Oil Furnace Fans are not currently subject to performance standards because DOE did not have sufficient data to analyze and establish standards for these product classes at the time of the July 2014 Final Rule. 79 FR 38180, 38150 (July 3, 2014). The current standards for furnace fans are shown in Table II-1.

Table II-1—Energy Conservation Standards for Covered Consumer Furnace Fans *
Product class | FER ** (W/1,000 cfm)
Non-Weatherized, Non-Condensing Gas Furnace Fan (NWG-NC) | FER = 0.044 × QMax + 182.
Non-Weatherized, Condensing Gas Furnace Fan (NWG-C) | FER = 0.044 × QMax + 195.
Weatherized Non-Condensing Gas Furnace Fan (WG-NC) | FER = 0.044 × QMax + 199.
Non-Weatherized, Non-Condensing Oil Furnace Fan (NWO-NC) | FER = 0.071 × QMax + 382.
Non-Weatherized Electric Furnace/Modular Blower Fan (NWEF/NWMB) | FER = 0.044 × QMax + 165.
Mobile Home Non-Weatherized, Non-Condensing Gas Furnace Fan (MH-NWG-NC) | FER = 0.071 × QMax + 222.
Mobile Home Non-Weatherized, Condensing Gas Furnace Fan (MH-NWG-C) | FER = 0.071 × QMax + 240.
Mobile Home Electric Furnace/Modular Blower Fan (MH-EF/MB) | FER = 0.044 × QMax + 101.
Mobile Home Non-Weatherized Oil Furnace Fan (MH-NWO) | Reserved.
Mobile Home Weatherized Gas Furnace Fan (MH-WG) ** | Reserved.
* Furnace fans incorporated into hydronic air handlers, small-duct high-velocity (“SDHV”) modular blowers, SDHV electric furnaces, and CAC/HP indoor units are not subject to the standards listed in this table.
** QMax is the airflow, in cfm, at the maximum airflow-control setting measured using the final DOE test procedure at 10 CFR part 430, subpart B, appendix AA.

Additionally, in the analysis conducted in support of the July 2014 Final Rule, DOE excluded several products for which it was not aware of any shipments. These products included Weatherized Non-Condensing Oil Furnace Fans; Weatherized Electric Furnace/Modular Blower Fans; Mobile Home Weatherized Oil Furnace Fans; Mobile Home Weatherized Electric Furnace/Modular Blower Fans; and Non-Weatherized, Condensing Oil Furnace Fans; and Hydronic Air Handlers. 79 FR 38130, 38150 (July 3, 2014). DOE also excluded furnace fans used in single-package central air conditioners (“CAC”) and heat pumps (“HP”) and split-system CAC/HP blower-coil units. 79 FR 38130, 38145 (July 3, 2014). DOE noted that its test procedure for furnace fans at the time was not equipped to address these furnace fans for such products, as would be required for the adoption of standards under 42 U.S.C. 6295(o)(3). 79 FR 38130, 38149 (July 3, 2014). DOE stated that it may consider these and other such products as data information become available with which to develop credible analyses for them. 79 FR 38130, 38145-38149 (July 3, 2014).

On March 9, 2021, DOE published a Decision and Order granting a waiver to ECR International, Inc. (“ECR”) for certain furnace fan basic models from specified portions of the DOE test procedure and prescribed an alternate test procedure for such models.

The basic models for which the waiver was granted are factory-equipped for operation at an external static pressure (“ESP”) of 0.20 inches water column (“” w.c.”) and cannot operate within the ESP range of 0.65″-0.70″ w.c. required in appendix AA. 86 FR 13530, 13531 (March 9, 2021). The Decision and Order was based, in part, on ECR's statement that for these models, which are designed for heating only (i.e., not intended to be paired with a central air conditioner), the higher ESP required for the test reduces airflow, which in turn increases the temperature rise to the high temperature limit, resulting in the unit shutting off before the test can be completed. As a result, DOE is considering whether separate product classes are warranted for furnace fans designed for “heating only” applications. Specifically, DOE is reviewing whether such products provide a unique utility and have performance characteristics that affect their energy consumption as measured by the FER metric.

Issue 1: DOE seeks comment on whether there are any products that are covered by the definition of “furnace fans” and should be regulated by DOE, but are not covered by any of the current classes of furnace fans that are regulated by DOE.

Issue 2: DOE seeks information regarding any other new product classes it should consider for inclusion in its analysis. In particular, DOE seeks information regarding furnace fans designed for “heating only” applications and whether separate product classes, with separate energy conservation standards, are warranted for such products. DOE also requests relevant data detailing the corresponding impacts on energy use that would justify separate product classes (i.e., explanation for why the presence of certain performance-related features would increase or decrease energy consumption).

B. Significant Savings of Energy

In the July 2014 Final Rule, DOE established an energy conservation standard for furnace fans that is expected to result in 3.99 quadrillion British thermal units (“quads”) of full-fuel-cycle ³ (“FFC”) energy savings over a 30-year period. 79 FR 38130, 38131-38132. In that Final Rule, DOE adopted TSL 4, which was composed of a mix of efficiency levels (“ELs”) 1 and 4. 79 FR 38130, 38184 and 38201 (July 3, 2014). In the corresponding analysis, DOE estimated that the max-tech level (EL 6) would have reduced FER values by at least 10 percent more than EL 1 and EL 4. 79 FR 38130, 38159 (July 3, 2014). Additionally, in the July 2014 Final Rule, DOE estimated that an energy conservation standard established at an energy efficiency level equivalent to that achieved using the maximum available technology (“max-tech”) would have resulted in 1.65 additional quads of savings. 79 FR 38130, 38192 (July 3, 2014).

³ The FFC metric includes the energy consumed in extracting, processing, and transporting primary fuels (i.e., coal, natural gas, petroleum fuels). The FFC metric is discussed in DOE's statement of policy and notice of policy amendment. 76 FR 51282 (Aug. 18, 2011), as amended at 77 FR 49701 (Aug. 17, 2012).

While DOE's request for information is not limited to the following issues, DOE is particularly interested in comment, information, and data on the following.

Issue 3: In order to accurately disaggregate energy savings by product class, DOE is interested in shipments data, broken out by product class, efficiency level, and region.

Issue 4: DOE requests feedback on the levels of energy savings that could be expected from the adoption of more-stringent standards for furnace fans.

Issue 5: DOE requests data on the typical operating conditions for furnace fans when performing heating, cooling, and constant-circulating functions. Additionally, DOE seeks field data on the ESP when furnace fans are in use.

Issue 6: DOE requests data on the fraction of time spent and furnace fan energy consumed by system mode (heating, cooling, constant circulation).

Issue 7: DOE requests feedback and sources of data or recommendations to support sizing criteria of furnace fans for typical consumer space heating and space cooling applications.

C. Technological Feasibility

1. Technology Options

During the analysis conducted in support of July 2014 Final Rule, DOE considered a number of technology options that manufacturers could use to reduce energy consumption in furnace fans. In total, DOE considered eight technology options that would be expected to improve the efficiency of furnace fans: (1) Fan housing and airflow path design modifications; (2) high-efficiency fan motors (in some cases paired with multi-stage or modulating heating controls); (3) inverter-driven permanent-split capacitor (“PSC”) fan motors; (4) backward-inclined impellers; (5) constant-airflow brushless permanent magnet (“BPM”) motor control relays; (6) toroidal transformers; (7) switching mode power supplies; and (8) multi-staging and modulating heating controls. 79 FR 38130, 38150 (July 3, 2014).

Constant-airflow BPM motor control relays, toroidal transformers, and switching mode power supplies were removed from consideration as technology options because they only apply to standby mode and off mode operation and were no longer applicable once DOE revised its proposed scope of coverage to no longer address hydronic air handlers (which is the only furnace fan product class for which standby mode and off mode energy consumption is not already fully accounted for in the DOE energy conservation standards rulemakings for consumer furnaces and residential CAC and HPs). 79 FR 38130, 38150 (July 3, 2014).

Issue 8: DOE seeks information on the aforementioned technologies, including their applicability to the current market and how these technologies may impact the energy use of furnace fans as measured according to the DOE test procedure. DOE also seeks information on how these technologies may have changed since they were considered in the July 2014 Final Rule analysis.

Issue 9: DOE seeks information on each of the aforementioned technologies regarding their market adoption, costs, and any concerns with incorporating them into products (e.g., impacts on consumer utility, potential safety concerns, manufacturing/production/implementation issues, etc.), particularly as to changes that may have occurred since the July 2014 Final Rule.

Issue 10: DOE seeks comment on any other technology options that it should consider for inclusion in its analysis and if these technologies may impact equipment features or user utility.

2. Screening Analysis

The purpose of the screening analysis is to evaluate the technologies that improve product efficiency to determine which technologies will be eliminated from further consideration and which will be passed to the engineering analysis for further consideration. DOE determines whether to eliminate certain technology options from further consideration based on the following criteria: Technological feasibility; practicability to manufacture, install, and service; adverse impacts on product utility or product availability; adverse impacts on health or safety; and unique-pathway proprietary technologies. 10 CFR part 430, subpart C, appendix A, 6(c)(3).

In the July 2014 Final Rule, DOE screened out fan housing and airflow path design modifications as these were found to increase envelope sizes, which would adversely impact practicability to manufacture and install, as well as product utility. 79 FR 38130, 38153. Therefore, the technology options that DOE did not screen out were: (1) Inverter-driven PSC fan motors; (2) high-efficiency fan motors; (3) multi-stage or modulating heating controls; and (4) backward-inclined impellers. Id.

Issue 11: DOE requests feedback on what impact, if any, the screening criteria described in this section would have on each of the aforementioned technology options with respect to furnace fans. Similarly, DOE seeks information regarding how these same criteria would affect any other technology options not already identified in this document with respect to their potential use in furnace fans.

Issue 12: With respect to fan housing and airflow path design modifications, which were screened out in the previous rulemaking analysis, DOE seeks information on whether, based on current and projected assessments, this technology option should remain screened out under the screening criteria described in this section.

3. Engineering Efficiency Analysis

The engineering analysis estimates the cost-efficiency relationship of equipment at different levels of increased energy efficiency (“efficiency levels”). This relationship serves as the basis for the cost-benefit calculations for consumers, manufacturers, and the Nation, as described further in section II.D of this document.

As discussed, the current energy conservation standard for each furnace fan product class is based on FER, in watts per 1,000 CFM, and determined according to an equation using the furnace fan's airflow (in CFM) at the maximum airflow-control setting measured using the DOE test procedure at appendix AA. The current standards for furnace fans are found at 10 CFR 430.32(y).

As part of DOE's analysis, DOE develops efficiency levels as potential energy conservation standards to evaluate in the rulemaking analyses. Among these, DOE typically establishes efficiency levels at the maximum-available and maximum technologically feasible (“max-tech”) efficiencies. The maximum-available efficiency level represents the highest efficiency units currently available on the market. The max-tech level represents the maximum improvement in energy efficiency or maximum reduction in energy use that is technologically feasible.

DOE has performed an initial review of furnace fan basic models reported in DOE's Compliance Certification Management System (“CCMS”) Database,⁴ to assess the potential to improve efficiency relative to current (i.e., baseline) standard levels. DOE observed that models are currently available with FERs significantly lower than the currently allowable FER energy conservation standards. For example, DOE has observed certain models in the MH-NWG-C, NWG-C, NWO-NC, and WG-NC classes that have certified FER ratings at least 100 W/1,000 cfm below their applicable standards. For the NWG-C class in particular, certain models have FER ratings that are less than 10% of their applicable FER standard. Further, several models from the NWO-NC class have ratings more than 300 W/1,000 cfm below their applicable standards, which correspond to ratings that are approximately 30% of the applicable standard. DOE has also observed that certain technology options, and in particular constant-airflow BPM motors, are incorporated in models at both baseline and max-tech efficiency levels.

⁴ Available at www.regulations.doe.gov/certification-data/CCMS-4-Furnace_Fans.html#q=Product_Group_s%3A%22Furnace%20Fans%22.

Issue 13: DOE seeks input on whether the maximum-available efficiency levels (i.e., the lowest available FER levels) are appropriate and technologically feasible for consideration as possible energy conservation standards for furnace fans for each current product class. DOE seeks information on the design options incorporated into these maximum-available models, and also on the order in which manufacturers incorporate each design option when improving efficiency from the baseline to the maximum-available efficiency level (i.e., which design options would be included at intermediate efficiency levels between the baseline and maximum-available). DOE also requests information on the design changes implemented to achieve efficiencies greater than the max-tech considered in the July 2014 Final Rule analysis.

Issue 14: DOE seeks feedback on what design options would be incorporated at a max-tech efficiency level, and the efficiencies associated with those levels, for each product class. As part of this request, DOE also seeks information as to whether there are limitations on the use of certain combinations of design options. DOE is particularly interested in any design options that may have become available since the July 2014 Final Rule that would allow greater energy savings relative to the max-tech efficiency levels assessed for each product class in that rulemaking.

Issue 15: DOE seeks input on the costs associated with design options incorporated into furnace fans to improve efficiency, including the design options incorporated into the maximum-available models. DOE also requests information on the investments necessary to incorporate specific design options, including, but not limited to, costs related to new or modified tooling (if any), materials, engineering and development efforts to implement each design option, and manufacturing/production impacts.

D. Economic Justification

In determining whether a proposed energy conservation standard is economically justified, DOE analyzes, among other things, the potential economic impact on consumers, manufacturers, and the Nation. DOE seeks comment on whether there are economic barriers to the adoption of more-stringent energy conservation standards. DOE also seeks comment and data on any aspects of its economic justification analysis from the July 2014 Final Rule that may indicate whether a more-stringent energy conservation standard would be economically justified or cost effective.

While DOE's request for information is not limited to the following issues, DOE is particularly interested in comment, information, and data on the following.

1. Life-Cycle Cost and Payback Period Analysis

DOE conducts the life-cycle cost (“LCC”) and payback period (“PBP”) analysis to evaluate the economic effects of potential energy conservation standards for furnace fans on individual consumers. For any given efficiency level, DOE measures the PBP and the change in LCC relative to an estimated baseline level. The LCC is the total consumer expense over the life of the equipment, consisting of purchase, installation, and operating costs (expenses for energy use, maintenance, and repair). The PBP is the estimated amount of time (in years) it takes consumers to recover the increased purchase cost (including installation) of a more-efficient product through lower operating costs. Inputs to the calculation of total installed cost include the cost of the equipment—which includes the manufacturer selling price, distribution channel markups, and sales taxes—and installation costs. Inputs to the calculation of operating expenses include annual energy consumption, energy prices and price projections, repair and maintenance costs, equipment lifetimes, discount rates, and the year that compliance with new and amended standards is required.

Issue 16: DOE requests feedback on the typical distribution channels for furnace fans. In particular, DOE seeks comment on whether there is a market share for replacement furnace fans. DOE further seeks comment on whether there is a significant retail distribution channel for furnace fans.

Issue 17: DOE requests shipments data for furnace fans, broken down by product class and region, that show current market shares by efficiency level. DOE also seeks input on similar historic data.

Issue 18: DOE requests comment on the anticipated future market share of higher-efficiency products as compared to less-efficient products for each furnace fan product class, in the absence of amended efficiency standards.

2. Manufacturer Impact Analysis

The purpose of the manufacturer impact analysis (“MIA”) is to estimate the financial impact of amended energy conservation standards on manufacturers of furnace fans, and to evaluate the potential impact of such standards on direct employment and manufacturing capacity. As part of the MIA, DOE intends to analyze impacts of amended energy conservation standards on subgroups of manufacturers of covered equipment, including small business manufacturers. DOE uses the Small Business Administration's (“SBA”) small business size standards to determine whether manufacturers qualify as small businesses, which are listed by the North American Industry Classification System (“NAICS”).⁵ Manufacturing of furnace fans is classified under NAICS 333415, “Air-conditioning and warm air heating equipment and commercial and industrial refrigeration equipment manufacturing,” and the SBA sets a threshold of 1,250 employees or less for a domestic entity to be considered as a small business. This employee threshold includes all employees in a business' parent company and any other subsidiaries.

⁵ Available online at: www.sba.gov/document/support--table-size-standards.

One aspect of assessing manufacturer burden involves examining the cumulative impact of multiple DOE standards and the product-specific regulatory actions of other federal agencies that affect the manufacturers of a covered product or equipment. Multiple regulations affecting the same manufacturer can strain profits and lead companies to abandon product lines or markets with lower expected future returns than competing products. For these reasons, DOE conducts an analysis of cumulative regulatory burden as part of its rulemakings pertaining to appliance efficiency.

Issue 19: To the extent feasible, DOE seeks the names and contact information of any domestic or foreign-based manufacturers of the covered product in the United States.

Issue 20: DOE requests the names and contact information of small business manufacturers, as defined by the SBA's size threshold, that distribute covered products in the United States. In addition, DOE requests comment on any other manufacturer subgroups that could disproportionally be impacted by amended energy conservation standards. DOE requests feedback on any potential approaches that could be considered to address impacts on manufacturers, including small businesses.

Issue 21: DOE requests information regarding how the cumulative regulatory burden impacts manufacturers of furnace fans associated with (1) other DOE standards applying to different products or equipment that these manufacturers may also make, and (2) product-specific regulatory actions of other Federal agencies. DOE also requests comment on its methodology for computing cumulative regulatory burden and whether there are any flexibilities it can consider that would reduce this burden while remaining consistent with the requirements of EPCA.

III. Submission of Comments

DOE invites all interested parties to submit in writing by the date under the DATES heading, comments and information on matters addressed in this notification and on other matters relevant to DOE's early assessment of whether more-stringent energy conservation standards are warranted for furnace fans.

Submitting comments via www.regulations.gov. The www.regulations.gov web page requires you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit information to www.regulations.gov for which disclosure is restricted by statute, such as trade secrets and commercial or financial information (hereinafter referred to as Confidential Business Information (“CBI”)). Comments submitted through www.regulations.gov cannot be claimed as CBI. Anyone submitting comments through the website will waive any CBI claims on the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. Faxes will not be accepted.

Comments, data, and other information submitted to DOE electronically should be provided in PDF (preferred), Microsoft Word or Excel, WordPerfect, or text (ASCII) file format. Provide only documents that are: Not secured, written in English, and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signing Authority

This document of the Department of Energy was signed on November 17, 2021, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 18, 2021.
Treena V. Garrett,
Federal Register Liaison Officer, U.S. Department of Energy.

[FR Doc. 2021-25540 Filed 11-22-21; 8:45 am]

BILLING CODE 6450-01-P